DEPARTMENT OF HEALTH AND HUMAN SERVICES

Centers for Disease Control and Prevention

Support for Programs Designed To Reduce the Impact of HIV in Southern Sudan, Under the President's Emergency Plan for AIDS Relief

Announcement Type: New.

Funding Opportunity Number: CDC-RFA-AA211.

Catalog of Federal Domestic Assistance Number: 93.067.

Key Dates: Application Deadline: September 29, 2005.

I. Funding Opportunity Description

Authority: This program is authorized under Sections 301 (a) and 307 of the Public Health Service Act, [42 U.S.C. Sections 241 and 2421], as amended and under Public Law 108-25 (United States Leadership Against HIV/AIDS, Tuberculosis and Malaria Act of 2003) [22 U.S.C. 7601].

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

Under the leadership of the U.S. Global AIDS Coordinator, as part of the President's Emergency Plan, the U.S. Department of Health and Human Services (HHS) works with host countries and other key partners to assess the needs of each country and design a customized program of assistance that fits within the host nation's strategic plan.

The HHS Global AIDS Program (GAP) has established field operations to support national HIV/AIDS control programs in 25 countries and to build capacity to address the global AIDS pandemic. HHS/GAP provides financial and technical assistance through partnerships with governments, community- and faith-based organizations, the private sector and national and international entities.

HHS/CDC/GAP works with the other offices within the Centers for Disease Control and Prevention (CDC), Health Resources and Services Administration (HRSA), and the National Institutes of Health (NIH) within HHS; the U.S. Agency for International Development (USAID); Peace Corps; the U.S. Departments of State, Labor and Defense; and other agencies and organizations. These efforts complement multilateral efforts, including those of the Joint United Nations Programme on HIV/AIDS (UNAIDS); the Global Fund to Fight HIV, TB and Malaria (GFATM); World Bank funding; and other private-sector donation programs.

The U.S. Government seeks to reduce the impact of HIV/AIDS in specific countries within sub-Saharan Africa, Asia, and the Americas through the President's Emergency Plan for AIDS Relief (The Emergency Plan). Through this new initiative, HHS/ GAP will continue to work with host countries to strengthen capacity and expand activities in the areas of: (1) Primary HIV prevention; (2) HIV care, support, and treatment; and (3) capacity and infrastructure development, especially for surveillance and training.

As Southern Sudan emerges from a long civil war, HIV prevention, care, and strategic information activities and programs remain quite limited. The President's Emergency Plan has designated funds for HIV control in Southern Sudan through this announcement.

The approach taken by HHS/GAP and USAID in Southern Sudan, is similar to that in countries with larger programs, emphasizing collaboration with other agencies.

HHS/GAP and HHS/CDC Kenya support HIV-control efforts in Southern Sudan by providing technical assistance, directly and indirectly, to government bodies of the Sudan People's Liberation Movement (SPLM) and other partners, and by providing funding for program activities. HHS/CDC is involved in developing protocols and guidelines for specific program areas including sentinel surveillance; PMTCT and HIV clinical care; supporting the implementation of PMTCT as part of a pilot Safe Motherhood program primarily supported by the United Nations Children's Fund (UNICEF); working to implement sentinel surveillance in PMTCT sites; providing technical and material support towards the development of HIV public health laboratory capacity; initiating HIV/TB linkage activities in collaboration with the World Health Organization (WHO); working to implement HIV-control activities in the Sudan People's Liberation Army (SPLA), in collaboration with military officials and United Nations and non-governmental organization (NGO) stakeholders; and implementing safe-water interventions.

HHS/GAP's mission in Southern Sudan is to work with Sudanese and international partners to develop, support, and evaluate the effective implementation of interventions to prevent HIV and related illnesses, and to improve care and support for persons with HIV/AIDS. The program aims to build local capacity and promote in-country leadership and ownership of activities; focus on national and local priorities; share experiences and technical information and coordinate activities with other programs; and use local expertise, whenever possible.

Specifically, HHS/GAP's mission in Southern Sudan is to accomplish the following, as part of the President's Emergency Plan for AIDS Relief:

1. Provide support and training for HIV/AIDS prevention and care in health care facilities and in the community;

2. Establish training expertise for confidential HIV/AIDS testing and counseling in Southern Sudan; and

3. Strengthen the local and national responses to HIV/AIDS in Southern Sudan through support and collaboration with the National AIDS Council (NAC), private and NGO health sectors, and others.

Purpose: The purpose of this program is to improve the capacity of organizations that provide clinical care and public health interventions to reduce the impact of HIV in Southern Sudan. The range of activities supported under this announcement include the following: (1) Prevention for the uniformed services of New Sudan (Southern Sudan); (2) confidential counseling and testing {e.g. voluntary counseling and testing (VCT)}; (3) prevention integrated with maternal and child health care and community-based programs; (4) strengthening laboratory capacity for HIV public health functions (sentinel surveillance and quality assurance testing); (5) care and treatment including both basic evidence-based care for persons with HIV and highly active anti-retroviral therapy (HAART); and (6) safe-water interventions.

The support for implementing programs under this announcement will vary according to needs, but could include infrastructure modification to essential facilities, equipment procurement, hiring and training staff, and procurement of materials and supplies.

Measurable outcomes of the program will be in alignment with the numerical goals of the President's Emergency Plan and one (or more) of the following performance goal(s) for the National Center for HIV, STD and TB Prevention (NCHSTP) within HHS/CDC: By 2010, work with other countries, international organizations, the Department of State, USAID, and other partners to achieve the United Nations General Assembly Special Session on HIV/AIDS goal of reducing prevalence among people 15 to 24 years of age and to reduce HIV transmission and improve care of persons living with HIV. In addition, the measurable outcomes of the program will be in alignment with the goals of The Emergency Plan as outlined in this Program Announcement.

Specific measurable outcomes from this program will include: (1) The numbers of persons trained in confidential HIV counseling and testing (VCT and healthcare provider-initiated models); (2) number of persons trained in PMTCT; (3) number of persons trained in strategic information (includes M&E, surveillance and/or HMIS); (4) number of individuals trained in the provision of laboratory-related activities; (5) number of individuals trained to provide HIV palliative care (including TB/HIV); (6) numbers of individuals reached through community outreach prevention services; (7) number of individuals received counseling and testing for HIV and received their result; (8) number of service outlets providing the minimum package of PMTCT services according to national and international standards; (9) number of pregnant women who received HIV counseling and testing and received their results; (10) number of pregnant women provided with a complete course of antiretroviral prophylaxis in a PMTCT setting.

This announcement is only for non-research activities supported by HHS, including CDC. If an applicant proposes research activities, HHS will not review the application. For the definition of “research,” please see the HHS/CDC Web site at the following Internet address: http://www.HHS/CDC.gov/od/ads/opspoll1.htm.

Activities

Applicant organizations may apply for one or more, or all activities described in this program announcement. Organizations that are implementing HIV control activities may receive direct funding through this program announcement or through sub-grants from awardees.

Specific activities could include one or more of the following:

1. Provide prevention of mother to child transmission (PMTCT) services;

2. Sentinel surveillance specimen collection;

3. HIV laboratory services for sentinel surveillance, quality assessment, and care and treatment

4. Confidential HIV counseling and testing;

5. Development of a permanent HIV counseling and testing training program;

6. Capacity development for government institutions and individuals involved in HIV strategic information and service provision in Southern Sudan;

7. Capacity development for local organizations, including faith-based and other community-based and other non-governmental organizations involved in HIV service provision;

8. Care and treatment programs with and without HAART; and

9. HIV prevention and control for SPLM/A uniformed services personnel and their families.

Integrated approaches at the local level to confidential testing, prevention and care are necessary, and improving the overall quality of health care is essential to HIV control in conflict-affected Southern Sudan.

1. Within the first three months from the date of this award, develop a strategic plan to include goals, objectives, a monitoring plan, and if applicable, an implementation strategy to identify recipients of sub-grants, their implementation activities, and their reporting requirements, consistent with strategic information guidance established by the Office of the U.S. Global AIDS Coordinator.

2. Support training of staff of government and non-governmental organizations in relevant program areas, possibly including confidential counseling and testing, PMTCT integrated into strengthened maternal-child health care, HIV/AIDS care and treatment, laboratory methods, and data management.

3. Provide technical assistance to NAC and its staff and future HIV management programs that may be developed within the Ministry of Health of Southern Sudan to facilitate the development of program management capacity. Such activities should be undertaken in close consultation with HHS/CDC and other partners, especially USAID.

4. Identify project staffing needs, including administrative, management and technical staff; hire and train staff.

5. Identify furnishings, fittings, equipment and other fixed asset procurement needs of the project and implementing partners, and acquire from normal local, regional or international vendors, as appropriate, in a transparent and competitive process.

6. Establish an acceptable reporting structure. Provide fiscal oversight and technical assistance to local partners in the areas of program and financial management, administration, personnel management, data management, and other aspects of institution strengthening.

7. Develop mechanisms for sharing information, including sharing of lessons learned among local partners and including referral systems between partners when appropriate.

8. Monitor, assess and report on the performance of the local partners.

9. Assist the local partners to write reports describing their programs.

10. Provide training and technical assistance to some local partners so they could develop the skills to apply for funds independently and manage funds effectively after the completion of the program.

The recipient or recipients of these funds will be responsible for activities in multiple program areas designed to target underserved populations in Southern Sudan. Either the awardee (or awardees) will implement activities directly or will implement them through its subgrantees and/or subcontractors; the awardees will retain overall financial and programmatic management under the oversight of HHS/CDC and the strategic direction of the Office of the U.S. Global AIDS Coordinator. The awardee is expected to work closely with HHS/CDC staff in the planning and implementation of program activities. The awardee must show a measurable progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan.

The grantee will produce an annual operational plan in the context of this four-year plan, which the U.S. Government Emergency Plan team on the ground in Southern Sudan will review as part of the annual Emergency Plan for AIDS Relief Country Operational Plan review and approval process managed by the Office of the U.S. Global AIDS Coordinator. The grantee may work on some of the activities listed below in the first year and in subsequent years, and then progressively add others from the list to achieve all of the Emergency Plan performance goals, as cited in the previous section. HHS/CDC, under the guidance of the U.S. Global AIDS Coordinator, will approve funds for activities on an annual basis, based on documented performance toward achieving Emergency Plan goals, as part of the annual Emergency Plan for AIDS Relief Country Operational Plan review and approval process.

Based on its competitive advantage and proven field experience, the winning applicant will undertake a broad range of activities to meet the numerical Emergency Plan targets outlined in the announcement. For each of these activities, the grantee will give priority to evidence-based, yet culturally adapted, innovative approaches, including:

Confidential Counseling and Testing Services

Develop a training program for confidential HIV counseling and testing that will meet expanding program needs including VCT, routine and diagnostic testing in clinical settings, and eventually care and treatment counseling. Confidential counseling and testing capacity in Southern Sudan should be increased through training in counseling, supervision, and laboratory quality assessment. Different curricula could be appropriate for personnel with varying backgrounds and roles, from full-time lay counselors to healthcare workers who will perform some counseling.

Prevention Services

This activity can include PMTCT integrated with basic HIV clinical care and evidence-based maternal and child health, community-based prevention, and strengthening of antenatal surveillance. For example, organizations that operate primary health care centers and hospital should be strengthened, enhancing their capacity to provide integrated HIV prevention and care services including appropriate confidential testing and counseling; development of comprehensive antenatal and maternity care that include PMTCT of HIV; care and treatment for those infected (care and treatment programs that include HAART are not included under this activity); and prevention and voluntary, age and culturally-appropriate family planning. All facilities offering HIV care to pregnant mothers and their families should develop the capacity to provide basic HIV-related care to HIV-affected families and to effectively refer clients for more comprehensive care. Basic care (also known as palliative care) includes interventions to prevent opportunistic infections (OIs) as well as the treatment of OIs when they occur.

Interventions should promote the ABC model. Methods and strategies must emphasize abstinence for youth and other unmarried persons, mutual faithfulness and partner reduction for sexually active adults, and correct and consistent use of condoms by those populations who are engaged in high-risk behaviors.¹ Awardees may not implement condom social marketing without also implementing the abstinence and faithfulness behavior-change interventions outlined in the preceding paragraph.

¹ Behaviors that increase risk for HIV transmission include: engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

Laboratory Support for Regional Sentinel Surveillance

Support HIV public health laboratory services within Southern Sudan, at a facility designated by the National AIDS Council. ELISA equipment supplies will be procured separately, and it is anticipated that a GFATM-funded partner (identification pending) will play a substantial role in supporting logistic and data management needs related to HIV surveillance as well as program quality assurance. HHS/CDC laboratory staff will provide substantial technical support. The implementing partner for surveillance laboratory testing will require support for continuing activity, which is expected to include support for one laboratory technician and one data entry staff, with associated material costs.

Care and Treatment

Contingent upon identification of a suitable site, develop excellence in providing HIV clinical care, including highly active HAART programs, through support to one or more facility-based programs. HIV care and treatment activities will be consistent with national guidelines which are HHS/GAP will provide significant technical assistance and support. Promote knowledge of current HIV care, and support the provision of non-HAART care through training of healthcare providers, technical assistance, and support for equipment and supplies in implementing facilities.

Prevention Activities for the Uniformed Services

Provide HIV prevention services to active and demobilizing SPLA personnel and their families. National health authorities have identified uniformed service personnel as a priority for U.S. Government-supported HIV control efforts. Such interventions should include prevention and confidential VCT, and should be planned in association with the NAC, appropriate SPLA authorities, and current efforts to develop plans and policies for HIV control in the SPLA. Interventions should promote the ABC model. Methods and strategies must emphasize abstinence for youth and other unmarried persons, mutual faithfulness and partner reduction for sexually active adults, and correct and consistent use of condoms by those populations who are engaged in high-risk behaviors.² Awardees may not implement condom social marketing without also implementing the abstinence and faithfulness behavior-change interventions outlined in the preceding paragraph.

² Behaviors that increase risk for HIV transmission include: engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home.

Safe Water Interventions

Support a pilot program that makes safer water interventions available to one or more communities, conducted in association with HHS/CDC-supported activities described under the “Prevention” (including PMTCT) or “Care and Treatment” sections above. HIV-infected persons are at higher-than-average risk of diarrheal disease; therefore, the program should include such an intervention as part of a package of basic care for persons with HIV, and involve healthcare providers and facilities in the promotion of the intervention, although promotion should not be limited to the health-facility level. Studies have shown that variety of interventions designed to improve water and hand hygiene reduce the incidence of diarrheal disease at the household level, including point-of-use water treatment combined with the use of safer household water vessels. Although most studies have focused on the benefits in other vulnerable groups, such as young children, successful efforts can have particular benefits for people with advanced HIV infection.

Awardees activities for this program are as follows:

Administer sub-grants and provide technical assistance to other organizations by developing a plan to support local or international organizations that provide a range of interventions including confidential VCT and other models of HIV testing and counseling, PMTCT, basic HIV care, HAART, and prevention education.

Administration

The successful applicant must comply with all HHS management requirements for meeting participation and progress and financial reporting for this cooperative agreement (See HHS Activities and Reporting sections below for details), and comply with all policy directives established by the Office of the U.S. Global AIDS Coordinator.

In a cooperative agreement, HHS staff is substantially involved in the program activities, above and beyond routine grant monitoring.

HHS Activities for this program are as follows:

1. Organize an orientation meeting with the grantee to brief them on applicable U.S. Government, HHS, and Emergency Plan expectations, regulations and key management requirements, as well as report formats and contents. The orientation could include meetings with staff from HHS agencies and the Office of the U.S. Global AIDS Coordinator.

2. Review and approve the process used by the grantee to select key personnel and/or post-award subcontractors and/or subgrantees to be involved in the activities performed under this agreement, as part of the Emergency Plan for AIDS Relief Country Operational Plan review and approval process, managed by the Office of the U.S. Global AIDS Coordinator.

3. Review and approve grantee's annual work plan and detailed budget, as part of the Emergency Plan for AIDS Relief Country Operational Plan review and approval process, managed by the Office of the U.S. Global AIDS Coordinator.

4. Review and approve grantee's monitoring and evaluation plan, including for compliance with the strategic information guidance established by the Office of the U.S. Global AIDS Coordinator.

5. Meet on a monthly basis with grantee to assess monthly expenditures in relation to approved work plan and modify plans as necessary.

6. Meet on a quarterly basis with grantee to assess quarterly technical and financial progress reports and modify plans as necessary.

7. Meet on an annual basis with grantee to review annual progress report for each U.S. Government Fiscal Year, and to review annual work plans and budgets for subsequent year, as part of the Emergency Plan for AIDS Relief review and approval process for Country Operational Plans, managed by the Office of the U.S. Global AIDS Coordinator.

8. Provide technical assistance, as mutually agreed upon, and revise annually during validation of the first and subsequent annual work plans. This could include expert technical assistance and targeted training activities in specialized areas, such as strategic information, project management, confidential counseling and testing, palliative care, treatment literacy, and adult learning techniques.

9. Provide in-country administrative support to help grantee meet U.S. Government financial and reporting requirements.

10. Assist awardees in identifying prospective local partners, and choosing them in a transparent and competitive process.

11. Assist awardee in developing strategies and mechanisms to identify new partners for years two and three.

12. Procure laboratory supplies including rapid, simple HIV and syphilis test kits and ELISA testing supplies.

13. Procure some drugs (non-HAART) and other therapeutics for HIV care and treatment.

14. Play an active role in the development of curricula and training courses, including provision of technical assistance.

15. Provide technical assistance in clinical, counseling and laboratory issues, training, data management, and program monitoring and evaluation.

16. Provide technical assistance with prevention, confidential counseling and testing and data-management issues. Such technical assistance can involve the identification of problems and challenges and collaborative efforts to find practical solutions.

17. Work with other stakeholders to evaluate curriculum and training needs on a continuous basis, and adapt training as necessary to meet the program needs in Southern Sudan, particularly in local languages.

18. Participate in providing support and supervision to implementing partners.

19. Monitor project and budget performance to ensure satisfactory progress towards the goals of the project.

Please note: Either HHS staff or staff from organizations that have successfully competed for funding under a separate HHS contract, cooperative agreement or grant will provide technical assistance and training.

II. Award Information

Type of Award: Cooperative Agreement.

HHS involvement in this program is listed in the Activities Section above.

Fiscal Year Funds: FY 2006.

Approximate Total Project Period Funding: $3,000,000. (This amount is an estimate, and is subject to availability of funds.)

Approximate Number of Awards: Three or more, contingent upon funding.

Approximate Average Award: $250,000. (The amount will be higher in the first two years because of the need to develop curriculum and train trainers, etc. The amount is for the first 12-month budget period and will include direct costs [and indirect costs in the case of domestic grantees.])

Floor of Individual Award Range: $50,000.

Ceiling of Individual Award Range: $1,000,000. (This ceiling is for the first 12-month budget period.)

Anticipated Award Date: October 30, 2005.

Budget Period Length: 12 months.

Project Period Length: Three years.

Throughout the project period, HHS' commitment to continuation of awards will be conditioned on the availability of funds, evidence of satisfactory progress by the recipient (as documented in required reports), and the determination that continued funding is in the best interest of the Federal Government, through the Emergency Plan for AIDS Relief review and approval process for Country Operational Plans, managed by the Office of the U.S. Global AIDS Coordinator.

III. Eligibility Information

III.1. Eligible Applicants

This announcement is for limited competition.

Eligible applicants that can apply for this funding opportunity are public and private non-profit organizations and governments and their agencies, such as:

• U.S.-Based and International non-profit organizations

• Sudanese non-profit organizations

• Universities

• Colleges

• Research institutions

• Hospitals

• Community-based organizations

• Faith-based organizations

U.S.-based and international organizations that meet the eligibility criteria are welcome to apply.

Applicants must have at least two years of documented experience in conducting one of the following activities:

(1) Building the capacity of local and indigenous organizations to conduct health-related activities in Southern Sudan, (2) managing sub-grants to local organizations in Southern Sudan; (3) providing health-related interventions in Southern Sudan; or (4) experience in developing similar HIV-related health programs, especially in other post-conflict settings.

III.2. Cost-Sharing or Matching Funds

Matching funds are not required for this program. Although matching funds are not required, preference will go to organizations that can leverage additional funds to contribute to program goals.

III.3. Other

If applicants request a funding amount greater than the ceiling of the award range, HHS/CDC will consider the application non-responsive, and it will not enter into the review process. We will notify you that your application did not meet the submission requirements.

Special Requirements: If your application is incomplete or non-responsive to the special requirements listed in this section, it will not enter into the review process. We will notify you that your application did not meet submission requirements.

• HHS/CDC will consider late applications non-responsive. See section “IV.3. Submission Dates and Times” for more information on deadlines.

• Applicant organizations meeting the criteria are eligible to apply for one or more, or all activities described in this program announcement. Applicants should indicate in the application, which activities they plan to implement. Applicants that are capable of providing management, administrative technical support for HHS/CDC/GAP-funded activities in Southern Sudan will be eligible to administer sub-grants to partner organizations. Applicants providing health-related services in Southern Sudan with capacity to implement HIV control activities may also apply for funding by responding directly to this program announcement.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161-1.

HHS strongly encourages you to submit your application electronically by using the forms and instructions posted for this announcement on www.grants.gov.

Application forms and instructions are available on the HHS/CDC Web site, at the following Internet address: www.cdc.gov/od/pgo/forminfo.htm.

If you do not have access to the Internet, or if you have difficulty accessing the forms on-line, contact the HHS/CDC Procurement and Grants Office Technical Information Management Section (PGO-TIM) staff at 770-488-2700. We can mail application forms to you.

IV.2. Content and Form of Submission

Application: You must submit a project narrative with your application forms. The narrative must be submitted in the following format:

• Maximum number of pages: 30. If your narrative exceeds the page limit, we will only review the first pages within the page limit.

• Font size: 12 point unreduced.

• Double spaced

• Paper size: 8.5 by 11 inches.

• Page margin size: One inch.

• Number all pages of the application sequentially from page 1 (application Face Page) to the end of the application, including charts, figures, tables, and appendices.

• Printed only on one side of the page.

• Held together only by rubber bands or metal clips; not bound in any other way.

• Submitted in English.

• Numbered pages

Your narrative should address activities to be conducted over the entire project period and must include the following items in the order listed:

• Background—what are the underlying issues related to undertaking this project?

• Objectives—What objectives will be achieved by undertaking this project?

• Activities—What activities will be undertaken to achieve stated objectives?

• Methods—What methods will be used to conduct activities?

• Evaluation Framework—What evaluation procedures will be used to determine if the objectives of the project are being met?

• Budget highlighting any supplies mentioned in the program requirements.

• Any proposed capital expenditures.

You may include additional information in the application appendices. The appendices will not count toward the narrative page limit. This additional information includes the following:

• Organizational charts

• Curriculum vitas

• Letters of support, etc.

The budget and budget justification will not count in the page limit stated above.

Although the narrative addresses activities for the entire project, the applicant should provide a detailed budget only for the first year of activities, while addressing budgetary plans for subsequent years.

You must have a Dun and Bradstreet Data Universal Numbering System (DUNS) number to apply for a grant or cooperative agreement from the Federal government. The DUNS number is a nine-digit identification number, which uniquely identifies business entities. Obtaining a DUNS number is easy, and there is no charge. To obtain a DUNS number, access www.dunandbradstreet.com or call 1-866-705-5711.

For more information, please see the HHS/CDC Web site at: http://www.cdc.gov/od/pgo/funding/pubcommt.pdf.

If your application form does not have a DUNS number field, please write the DUNS number at the top of the first page of the application, and/or include your DUNS number in the application cover letter.

Additional requirements that could require you to submit additional documentation with the application are listed in section “VI.2. Administrative and National Policy Requirements.”

IV.3. Submission Dates and Times

Application Deadline Date: September 29, 2005.

Explanation of Deadlines: Applications must be received in the HHS/CDC Procurement and Grants Office by 4 p.m. Eastern time on the deadline date.

You may submit your application electronically at www.grants.gov. We consider applications completed on-line through Grants.gov as formally submitted when the applicant organization's Authorizing Official electronically submits the application to www.grants.gov. We will consider electronic applications as having met the deadline if the applicant organization's Authorizing Official has submitted the application electronically to Grants.gov on or before the deadline date and time.

If you submit your application electronically through Grants.gov (http://www.grants.gov), your application will be electronically time/date stamped, which will serve as receipt of submission. You will receive an e-mail notice of receipt when HHS/CDC receives the application.

If you submit your application by the United States Postal Service or commercial delivery service, you must ensure that the carrier will be able to guarantee delivery by the closing date and time. If HHS/CDC receives your submission after closing because: (1) Carrier error, when the carrier accepted the package with a guarantee for delivery by the closing date and time; or (2) significant weather delays or natural disasters, you will have the opportunity to submit documentation of the carrier's guarantee. If the documentation verifies a carrier problem, HHS/CDC will consider the submission as having been received by the deadline.

If you submit a hard copy application, HHS/CDC will not notify you upon receipt of the submission. If you have a question about the receipt of your application, first contact your courier. If you still have a question, contact the PGO-TIM staff at (770) 488-2700. Before calling, please wait two to three days after the submission deadline. This will allow time for us to process and log submissions.

This announcement is the definitive guide on application content, submission address, and deadline. It supersedes information provided in the application instructions. If your submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Funds may be used for: Hiring of staff needed to provide services; training service providers; coordination of the program; purchase of supplies, equipment, and commodities (including antiretroviral drugs) needed to provide the services; renovation of clinical facilities at site of program implementation; sensitization of the community on HIV control services; providing ground transportation services to HHS/CDC GAP staff in Southern Sudan, maintaining office and residential facilities for GAP staff.

• Reimbursement of pre-award costs is not allowed.

• Antiretroviral Drugs—The purchase of antiretrovirals, reagents, and laboratory equipment for antiretroviral treatment projects require pre-approval from the GAP headquarters.

• Needle Exchange—No funds appropriated under this Act shall be used to carry out any program of distributing sterile needles or syringes for the hypodermic injection of any illegal drug.

• Funds may be spent for reasonable program purposes, including personnel, training, travel, supplies and services. Equipment may be purchased and renovations completed if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organization, regardless of their location.

• The applicant may contract with other organizations under this program; however, the applicant must perform a substantial portion of the activities (including program management and operations, and delivery of prevention and care services for which funds are required).

• An annual audit of these funds is required and must be conducted by a U.S.-based audit firm with international branches and current licensure/authority in-country, and in accordance with International Accounting Standards or equivalent standard(s) approved in writing by HHS/CDC. The audit should specify the use of funds and the appropriateness and reasonableness of expenditures.

• A fiscal Recipient Capability Assessment may be required, prior to or post award, to review the applicant's business management and fiscal capabilities regarding the handling of U.S. Federal funds.

You may find guidance for completing your budget on the HHS/CDC Web site, at the following Internet address: http://www.cdc.gov/od/pgo/funding/budgetguide.htm.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. § 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. Government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, ‘Prostitution and Related Activities.’ ”) addressed to the agency's grants officer. Such certifications by prime recipients are prerequisites to the payment of any U.S. Government funds in connection with this document.

Recipients' compliance with this section, “Prostitution and Related Activities,” is an express term and condition of receiving U.S. government funds in connection with this document, and any violation of it shall be grounds for unilateral termination by HHS of the agreement with HHS in connection with this document prior to the end of its term. The recipient shall refund to HHS the entire amount furnished in connection with this document in the event HHS determines the recipient has not complied with this section, “Prostitution and Related Activities.”

IV.6. Other Submission Requirements

Application Submission Address

HHS/CDC strongly encourages applicants to submit applications electronically at www.grants.gov. You will be able to download a copy of the application package from www.Grants.gov, complete it off-line, and then upload and submit the application via the Grants.gov site. We will not accept e-mail submissions. If you are having technical difficulties in Grants.gov, customer service can be reached by e-mail at support@grants.gov, or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of the application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommend that you submit your grant application by using Microsoft Office products (e.g., Microsoft Word, Microsoft Excel, etc.). If you do not have access to Microsoft Office products, you may submit a PDF file. You may find directions for creating a PDF on the Grants.gov web site. Use of file formats other than Microsoft Office or PDF could make your file unreadable for our staff.

or

Submit the original and two hard copies of your application by mail or express delivery service to the following address:

Technical Information Management—AA211, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application, and they will be an element of evaluation.

We will evaluate your application against the following criteria:

1. Ability To Carry Out the Project (35 Points)

Does the applicant document demonstrated capability to achieve the purposes of the project? Does the applicant demonstrate an understanding of the issues and problems that face local and indigenous organizations in implementing HIV prevention and care in Sudan? Does the applicant have demonstrated and prior experience in providing capacity building and support to local and indigenous organizations in developing countries? Does the applicant demonstrate an understanding of the national cultural and political context and the technical and programmatic areas covered by the project? Does the applicant have demonstrated experience in HIV service delivery? Does the applicant display knowledge of the five-year strategy and goals of the President's Emergency Plan, such that it can build on these to develop a comprehensive, collaborative project to reach underserved populations in Southern Sudan and meet the goals of the Emergency Plan?

2. Plans for Administration and Management of the Project (25 Points)

Are there adequate plans for administering the project? Does the applicant describe activities that are realistic, achievable, time-framed and appropriate to complete this program? Does the application include an overall design strategy, including measurable time lines, clear monitoring and evaluation procedures, and specific activities for meeting the proposed objectives? Does the applicant describe a plan to progressively build the capacity of local organizations and of target beneficiaries and communities to respond to the epidemic?

3. Personnel (25 Points)

Do the personnel have appropriate technical qualifications, and are they fluent in local languages spoken in Southern Sudan? Are the professional personnel involved in this project qualified, including prior experience with improving the capacity of local and indigenous organizations or delivering the specified services in Sudan or elsewhere in developing countries?

4. Administrative, Evaluation and Accounting Plan (15 Points)

Is there a plan to account for, prepare reports, monitoring and audit expenditures under this agreement, manage the resources of the program and produce, collect and analyze performance data?

5. Budget (Not Scored)

Is the budget itemized, well justified and consistent with the five-year strategy and goals for the President's Emergency Plan and Emergency Plan activities in Southern Sudan? Does the budget reflect a commitment to ensure that local organizations receive an adequate percentage of the total award to ensure they can achieve their targets? Is the percentage of funds designated for administration and capacity building, including technical oversight from a head office, reasonable?

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

While U.S.-based organizations are eligible to apply, we will give preference to existing national/Southern Sudanese organizations. It is possible for one organization to apply as lead grantee with a plan that includes partnering with other organizations, preferably local. Although matching funds are not required, preference will be go to organizations that can leverage additional funds to contribute to program goals.

Applications will be funded in order by score and rank determined by the review panel. HHS/CDC will provide justification for any decision to fund out of rank order.

V.3. Anticipated Announcement and Award Dates

October 30, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 as Appropriate

For more information on the Code of Federal Regulations, see the National Archives and Records Administration at the following Internet address: http://www.access.gpo.gov/nara/cfr/cfr-table-search.html.

The following additional requirements apply to this project:

• AR-4 HIV/AIDS Confidentiality Provisions

• AR-6 Patient Care

• AR-8 Public Health System Reporting Requirements

• AR-12 Lobbying Restrictions

• AR-14 Accounting System Requirements

• AR-15 Proof of Non-Profit Status

• AR-23 States and Faith Based Organization

Applicants can find additional information on these requirements on the HHS/CDC Web site at the following Internet address: http://www.cdc.gov/od/pgo/funding/ARs.htm.

You need to include an additional Certifications form from the PHS 5161-1 application in your Grants.gov electronic submission only. Please refer to http://www.cdc.gov/od/pgo/funding/PHS5161-11Certificates.pdf. Once you have filled out the form, please attach it to the Grants.gov submission as Other Attachments Form.

VI.3. Reporting Requirements

You must provide HHS/CDC with an original, plus two hard copies of the following reports:

1. In year one, quarterly progress reports, due 30 days after the end of each quarter. In subsequent years, a semi-annual progress report is required no later than 30 days after the reporting period.

2. Interim progress report, no less than 90 days before the end of the budget period. The progress report will serve as the non-competing continuation application, and must contain the following elements:

a. Current Budget Period Activities Objectives.

b. Current Budget Period Financial Progress.

c. New Budget Period Program Proposed Activity Objectives.

d. Budget.

e. Measures of Effectiveness, including progress against the numerical goals of the President's Emergency Plan for AIDS Relief for Southern Sudan.

f. Additional Requested Information.

3. Financial status report, no more than 90 days after the end of the budget period.

4. Final financial and performance reports, no more than 90 days after the end of the project period.

5. Annual progress report, due no more than 60 days after the end of the budget period. Reports should include progress against the numerical goals of the President's Emergency Plan for AIDS Relief for Southern Sudan.

Recipients must mail these reports to the Grants Management or Contract Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341. Telephone: 770-488-2700.

For program technical assistance, contact: Thomas Boo, Medical Officer, GAP, CDC-Kenya, Centers for Disease Control and Prevention, HHS/CDC Global AIDS Program, P.O. Box 606 Village Market, 00621 Nairobi, Kenya. Telephone: 254-20-271-3008, ext. 149 or Mobile: +254-722-200-189. E-mail: tboo@ke.cdc.gov.

For financial, grants management, or budget assistance, contact: Diane Flournoy, Grants Management Specialist, CDC Procurement and Grants Office, U.S. Department of Health and Human Services, 2920 Brandywine Road, Atlanta, GA 30341. Telephone: 770-488-2072. E-mail: dmf6@cdc.gov.

VIII. Other Information

Applicants can find this and other HHS funding opportunity announcements on the HHS/CDC Web site, Internet address: www.cdc.gov (Click on “Funding” then “Grants and Cooperative Agreements”), and on the Web site of the HHS Office of Global Health Affairs, Internet address: www.globalhealth.gov.

Dated: August 31, 2005.
William P. Nichols,
Director, Procurement and Grants Office, Centers for Disease Control and Prevention, U.S. Department of Health and Human Services.

[FR Doc. 05-17678 Filed 9-6-05; 8:45 am]

BILLING CODE 4163-18-P